FEDERAL ELECTION COMMISSION

Sunshine Act Meeting

Time and Date: Thursday, March 8, 2018 at 10:00 a.m.

Place: 999 E Street NW, Washington, DC (Ninth Floor).

Status: This meeting will be open to the public.

Matters to be Considered:

Correction and Approval of Minutes for December 7, 2017

Correction and Approval of Minutes for December 14, 2017

Correction and Approval of Minutes for January 11, 2018

REG 2011-02: Draft Notice of Proposed Rulemaking on internet Communication Disclaimers and Definition of “Public Communication”

REG 2011-02: Draft Notice of Proposed Rulemaking on internet Communication Disclaimers

Management and Administrative Matters

Contact Person For More Information: Judith Ingram, Press Officer, Telephone: (202) 694-1220.

Individuals who plan to attend and require special assistance, such as sign language interpretation or other reasonable accommodations, should contact Dayna C. Brown, Secretary and Clerk, at (202) 694-1040, at least 72 hours prior to the meeting date.

Dayna C. Brown,
Secretary and Clerk of the Commission.

[FR Doc. 2018-04555 Filed 3-1-18; 4:15 pm]

BILLING CODE 6715-01-P